DEPARTMENT OF TRANSPORTATION

Federal Transit Administration

[Docket No. FTA-2014-0006]

Notice of Request for Comments on Updates to National Transit Database Information Collection

AGENCY: Federal Transit Administration (FTA), DOT.

ACTION: Notice of request for comments, extension of comment period.

SUMMARY: FTA is extending the comment period for the notice of request for comments, which was published on August 19, 2014. The original comment period closed on September 18, 2014. The extension is based on concerns expressed to FTA that the September 18 closing date did not provide sufficient time to review and provide comprehensive comments on two of the proposed changes. FTA agrees that the comment period for these two proposed changes should be extended. Therefore, FTA has extended the comment period by 30 days from the original deadline to October 20, 2014. Additionally, FTA will continue to accept and review comments arriving after the extended deadline to the fullest extent practicable. This extension will provide those interested in commenting additional time to discuss, evaluate, and submit responses to the docket.

DATES: The comment period for the proposed rule published on August 19, 2014 (79 FR 49146), is extended. Comments must be received on or before October 20, 2014. Any comments filed after this deadline will be considered to the extent practicable.

ADDRESSES: Please submit your comments by only one of the following methods, identifying your submission by Docket Number (FTA-2014-0006).

• Federal eRulemaking Portal: Submit electronic comments and other data to http://www.regulations.gov.

• U.S. Mail: Send comments to Docket Operations; U.S. Department of Transportation, 1200 New Jersey Avenue SE., West Building Room W12-140, Washington, DC 20590-0001.

• Hand Delivery or Courier: Take comments to Docket Operations in Room W12-140 of the West Building, Ground Floor, at 1200 New Jersey Avenue SE., Washington, DC, between 9:00 a.m. and 5:00 p.m., Monday through Friday, except Federal holidays.

• Fax: Fax comments to Docket Operations, U.S. Department of Transportation, at (202) 493-2251.

Instructions: You must include the agency name (Federal Transit Administration) and Docket Number (FTA-2014-0006) for this notice, at the beginning of your comments. If sent by mail, submit two copies of your comments. Due to security procedures in effect since October 2001, mail received through the U.S. Postal Service may be subject to delays. Parties submitting comments should consider using an express mail firm to ensure their prompt filing of any submissions not filed electronically or by hand. If you wish to get confirmation that FTA received your comments, you must include a self-addressed stamped postcard. All comments received will be posted without change to http://www.regulations.gov, including any personal information provided. You may review U.S. DOT's complete Privacy Act Statement published in the Federal Register on April 11, 2000, at 65 FR 19477-8 or http://DocketsInfo.dot.gov.

FOR FURTHER INFORMATION CONTACT: Keith Gates, National Transit Database Program Manager, Office of Budget and Policy, (202) 366-1794, or email: keith.gates@dot.gov.

Office hours are from 8:30 a.m. to 5:00 p.m., Monday through Friday, except Federal holidays.

SUPPLEMENTARY INFORMATION:

I. Introduction

The August 19 notice FR notice, for which we are extending the comment period here, announces FTA's intention to revise certain aspects of National Transit Database (NTD) reporting guidance as described in the NTD Reporting Manual. The changes primarily relate to urbanized area transit providers. FTA is seeking public comment before implementing these changes to 49 U.S.C. 5335 National Transit Database.

II. Background

The August 19 notice proposes various changes to the requirements for the Urbanized Area Systems reporting to the NTD. These changes are primarily updates to the guidance in the NTD Reporting Manual, and FTA proposes that these changes will take effect for the FY 2014 data reporting cycle, which will begin this Fall. These changes do not apply to rural transit systems reporting through the NTD Rural Module. The proposed changes are as follows:

A. Clarification for reporting subset data on ADA paratransit services

B. Clarification on the reporting of contractual relationships

C. Updates to definition of the bus rapid transit mode

D. Guidance for service on HOT lanes

E. Updates to the definition of commuter service and allocation of data attributable to an urbanized area

F. Proposed elimination of consolidated reporting and update of small systems waiver reporting

G. Clarification on consistent use of transit system names and organization types

H. Policy clarification allowing delegation of CEO certification responsibility

I. Elimination of unnecessary reporting requirements

J. Updated guidance for sampling of passenger miles

K. Expansion of capital asset reporting required by MAP-21

Please refer to the original proposed guidance as published on August 19, 2014 (79 FR 49146) for a more detailed discussion of these changes.

III. Extension

Most changes proposed in this notice are simple updates to the guidance in the NTD Reporting Manual. FTA did not expect extensive comments on these changes and will not be extending the comment deadline for them. The two proposed changes for which we have specifically been asked to extend the comment period, and which are covered under this notice are:

A. Clarification for reporting subset data on ADA paratransit services; and

K. Expansion of capital asset reporting required by MAP-21.

Additional comments on the other proposals will be considered as time allows.

Therese McMillan,
Acting Administrator.

[FR Doc. 2014-24724 Filed 10-16-14; 8:45 am]

BILLING CODE 4910-57-P